DEPARTMENT OF COMMERCE

International Trade Administration

[A-475-829]

Stainless Steel Bar from Italy: Final Results of Antidumping Duty Administrative Review

AGENCY: Import Administration, International Trade Administration, Department of Commerce.

ACTION: Notice of final results of 2001-2003 administrative review.

SUMMARY: On February 5, 2004, the Department of Commerce published the preliminary results of the administrative review of the antidumping duty order on stainless steel bar from Italy. The period of review is August 2, 2001, through February 28, 2003. We gave interested parties an opportunity to comment on the preliminary results. Based on our analysis of the comments received and an examination of our calculations, we have made certain changes for the final results. The final weighted-average dumping margins for the two manufacturer/exporters are listed below in the “Final Results of the Review” section of this notice.

EFFECTIVE DATE: June 14, 2004.

FOR FURTHER INFORMATION CONTACT: Blanche Ziv, Import Administration, International Trade Administration, U.S. Department of Commerce, 14th Street and Constitution Avenue, NW, Washington, DC 20230; telephone: (202) 482-4207.

SUPPLEMENTARY INFORMATION:

Background

Since the publication of the preliminary results in this review (see Stainless Steel Bar from Italy: Preliminary Results of Antidumping Duty Administrative Review, 69 FR 5488 (February 5, 2004) (“Preliminary Results”)), the following events have occurred:

We invited parties to comment on the preliminary results of the review. On March 9, 2004, Carpenter Technology Corp., Crucible Specialty Metals Division of Crucible Materials Corp., Electralloy Corp., Slater Steels Corp., Empire Specialty Steel and the United Steelworkers of America (AFL-CIO/CLC) (collectively, “petitioners”), filed a case brief. On March 15, 2004, the respondent Foroni S.p.A. (“Foroni”) filed a rebuttal brief. At the request of the Department, the petitioners filed a revised case brief on March 19, 2004.

Scope of the Order

For the purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which, if less than 4.75 mm in thickness have a width measuring at least 10 times the thickness or, if 4.75 mm or more in thickness have a width which exceeds 150 mm and measures at least twice the thickness), products that have been cut from stainless steel sheet, strip or plate, wire (i.e., cold-formed products in coils, of any uniform solid cross section along their whole length, which do not conform to the definition of flat-rolled products), angles, shapes and sections.

The stainless steel bar subject to this order is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of the order is dispositive.

Period of Review

The period of this review (“POR”) is August 2, 2001, through February 28, 2003.

Analysis of Comments Received

All issues raised in the case and rebuttal briefs by parties to this review are addressed in the “Issues and Decision Memorandum” from Jeffrey May, Deputy Assistant Secretary, Import Administration to James J. Jochum, Assistant Secretary, Import Administration, dated June 4, 2004 (“Decision Memorandum”), which is hereby adopted by this notice. Attached to this notice as an appendix is a list of the issues which parties have raised and to which we have responded in the Decision Memorandum. Parties can find a complete discussion of all issues raised in this review and the corresponding recommendations in this public memorandum which is on file in the Department's Central Records Unit (“CRU”). In addition, a complete version of the Decision Memorandum can be accessed directly on the Web at http://ia.ita.doc.gov/frn/index.html. The paper copy and electronic version of the Decision Memorandum are identical in content.

Facts Otherwise Available

Section 776(a)(2) of the Tariff Act of 1930, as amended (“the Act”), provides that the Department shall apply “facts otherwise available” if, inter alia, a respondent (A) withholds information that has been requested; (B) fails to provide information within the deadlines established, or in the form or manner requested by the Department, subject to subsections (c)(1) and (e) of Section 782; (C) significantly impedes a proceeding; or (D) provides information that cannot be verified.

As discussed in the Preliminary Results, Ugine Savoie-Imphy S.A. (“Ugine”) did not respond to the Department's questionnaire. For the reasons stated in the Preliminary Results (69 FR at 5489), we continue to find that the use of adverse facts available is appropriate in this review. As noted in the Preliminary Results, Ugine has failed to cooperate to the best of its ability by not responding to the Department's antidumping questionnaires. As adverse facts available, we have assigned Ugine a margin of 33.00 percent for the final results, the highest margin from any segment of the proceeding, which is also the highest margin alleged in the petition, in accordance with section 776(b)(1) of the Act.

Fair Value Comparisons

To determine whether sales of stainless steel bar by Foroni to the United States were made at less than normal value (“NV”), we compared, as appropriate, constructed export price (“CEP”) to NV. Our calculations followed the methodologies described in the Preliminary Results, except as noted below and in the final results calculation memoranda cited below, which are on file in the CRU.

Changes from the Preliminary Results

For Foroni, in our calculation of NV, we have adjusted the financial expense factor. See Memorandum from Blanche Ziv to the File, “Final Results Calculation Memorandum for Foroni S.p.A. and Foroni Metals of Texas,” dated June 4, 2004 (“Final Calc Memo”); Memorandum to Neal Halper from LaVonne Clark, “Cost of Production and Constructed Value Calculation Adjustments for the Final Results,” dated June 4, 2004; and Decision Memorandum, at Comment 3. We revised Foroni's U.S. indirect selling expenses to include property taxes. See Final Calc Memo and Decision Memorandum, at Comment 1. We also corrected clerical errors in the calculation program that resulted in an understatement of CEP profit. See Final Calc Memo and Decision Memorandum, at Comment 5.

Final Results of the Review

We determine that the following percentage margins exist for the period August 2, 2001, through February 28, 2003:

Exporter/manufacturer | Weighted-average margin percentage
Foroni S.p.A. and Foroni Metals of Texas | 4.03
Ugine Savoie-Imphy S.A. | 33.00

Assessment Rates

The Department shall determine, and U.S. Customs and Border Protection (“CBP”) shall assess, antidumping duties on all appropriate entries. In accordance with 19 C.F.R. § 351.212(b)(1), we have calculated importer (or customer)-specific assessment rates for merchandise subject to this review. To determine whether the duty assessment rates were de minimis (i.e., at or above 0.5 percent), in accordance with the requirement set forth in 19 C.F.R. § 351.106(c)(1), we calculated importer (or customer)-specific ad valorem rates by aggregating the dumping margins calculated for all U.S. sales to that importer (or customer) and dividing this amount by the entered value of the sales to that importer (or customer). Where an importer (or customer)-specific ad valorem rate is greater than de minimis, we will apply the assessment rate to the entered value of the importer's/customer's entries during the review period.

The Department will issue appropriate assessment instructions directly to CBP within 15 days of publication of these final results of review.

Cash Deposit Rates

The following antidumping duty deposits will be required on all shipments of stainless steel bar from Italy entered, or withdrawn from warehouse, for consumption, effective on or after the publication date of the final results of this administrative review, as provided by section 751(a)(1) of the Act: (1) for Bedini, because its estimated weighted-average final dumping margin established in the Notice of Final Determination of Sales at Less Than Fair Value: Stainless Steel Bar from Italy, 67 FR 3155 (January 23, 2002), as amended, 67 FR 8288 (February 22, 2002) (“LTFV Investigation”) was de minimis, no antidumping duty deposit will be required on merchandise produced and exported by Bedini; (2) the cash deposit rates for the reviewed companies will be the rates listed above (except no cash deposit will be required if a company's weighted-average margin is de minimis, i.e., less than 0.5 percent); (3) for previously reviewed or investigated companies not listed above, the cash deposit rate will continue to be the company-specific rate published for the most recent period; (4) if the exporter is not a firm covered in this review, the previous review, or the original investigation, but the manufacturer is, for manufacturers other than Bedini, the cash deposit rate will be the rate established for the most recent period for the manufacturer of the merchandise; and (5) if neither the exporter nor the manufacturer is a firm covered in this or any previous reviews, or an exporter without its own rate is exporting Bedini merchandise, the cash deposit rate will be 3.81 percent, the “all others” rate established in the LTFV Investigation.

These cash deposit requirements shall remain in effect until publication of the final results of the next administrative review.

Notification to Importers

This notice serves as a final reminder to importers of their responsibility under 19 C.F.R. § 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APOs”) of their responsibility concerning the return or destruction of proprietary information disclosed under APO in accordance with 19 C.F.R. § 351.305, which continues to govern business proprietary information in this segment of the proceeding. Timely written notification of the return/destruction of APO materials or conversion to judicial protective order is hereby requested. Failure to comply with the regulations and terms of an APO is a violation which is subject to sanction.

We are issuing and publishing these results and this notice in accordance with sections 751(a)(1) and 777(i)(1) of the Act.

Dated: June 4, 2004.
James J. Jochum,
Assistant Secretary for Import Administration.

Appendix I

List of Comments in the Issues and Decision Memorandum

Comment 1: Foroni S.p.A's Indirect Selling Expenses

Comment 2: Foroni's Director's Fees and Auditor's Fees in its Reported Cost Data

Comment 3: Foroni's Financial Expense Ratio

Comment 4: Additional Adjustments to Foroni's Cost Data

Comment 5: Understatement of Foroni's Constructed Export Price Profit

Comment 6:Total Adverse Facts Available for Ugine Savoie-Imphy S.A.

Comment 7:Collapsing of Ugine and Trafilerie Bedini S.p.A.

[FR Doc. 04-13326 Filed 6-10-04; 8:45 am]

BILLING CODE 3510-DS-S